DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information, in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments on the proposed extension of the “BLS Occupational Safety and Health Statistics (OSHS) Cooperative Agreement application package.” A copy of the proposed information collection request (ICR) can be obtained by contacting the individual listed below in the Addresses section of this notice.

DATES: Written comments must be submitted to the office listed in the Addresses section of this notice on or before May 26, 2009.

ADDRESSES: Send comments to Carol Rowan, BLS Clearance Officer, Division of Management Systems, Bureau of Labor Statistics, Room 4080, 2 Massachusetts Avenue, NE., Washington, DC 20212, telephone number 202-691-7099. (This is not a toll free number.)

FOR FURTHER INFORMATION CONTACT: Carol Rowan, BLS Clearance Officer, telephone number 202-691-7099. (See Addresses section.)

SUPPLEMENTARY INFORMATION:

I. Background

The Secretary of Labor has delegated to the BLS the authority to collect, compile, and analyze statistical data on work-related injuries and illnesses, as authorized by the Occupational Safety and Health Act of 1970 (Pub. L. 91-596). The Cooperative Agreement is the vehicle through which State Grant Agencies are awarded funds to assist them in operating OSHS cooperative statistical programs and is designed to allow the BLS to ensure conformance with program objectives. The BLS has full authority over the financial operations of the statistical program. The BLS requires financial reporting that will produce the information that is needed to monitor the financial activities of the BLS Occupational Safety and Health Statistics grantees.

II. Current Action

The BLS requests clearance for the generic OSHS Cooperative Agreement from the Office of Management and Budget. The BLS is requesting an extension to the existing clearance for the OSHS Cooperative Agreement package.

III. Desired Focus of Comments

The BLS is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Extension of a currently approved collection.

Agency: Bureau of Labor Statistics.

Title: BLS Occupational Safety and Health Statistics Cooperative Agreement Application Package.

OMB Number: 1220-0149.

Affected Public: State Governments.

Frequency: Quarterly, Annually.

Forms | Total respondents | Frequency | Average burden: Per response (hours) | Average burden: Annually (hours) | Estimated total burden (hours)
BLS-OSHS Work Statements | 58 | 1 | 2 | 2 | 116
BLS-OSHS2 | 58 | 4 | 1 | 4 | 232
Total | 58 | 5 | 3 | 6 | 348

Total Burden Cost (capital/startup): $0.

Total Burden Cost (operating/maintenance): $0.

Comments submitted in response to this notice will be summarized and/or included in the request for Office of Management and Budget approval of the information collection request; they also will become a matter of public record.

Signed at Washington, DC, this 19th day of March 2009.
Kimberley D. Hill,
Acting Chief, Division of Management Systems, Bureau of Labor Statistics.

[FR Doc. E9-6546 Filed 3-24-09; 8:45 am]

BILLING CODE 4510-24-P